DEPARTMENT OF COMMERCE

National Oceanic and Atmospheric Administration

[RTID 0648-XC974]

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be May 31, from 9 a.m. to 5:30 p.m., June 1, from 8:30 a.m. to 5 p.m., and June 2, 2023 from 8 a.m. to 2 p.m. Pacific Time.

ADDRESSES: The meeting will be held at the Westgate Hotel, 1055 Second Avenue, San Diego, CA 92101; 619-238-1818. Meeting will also be by webinar and teleconference.

FOR FURTHER INFORMATION CONTACT: Katie Denman, MAFAC Assistant; 301-427-8038; email: Katie.denman@noaa.gov.

SUPPLEMENTARY INFORMATION: As required by section 10(a)(2) of the Federal Advisory Committee Act, 5 U.S.C. app. 2, notice is hereby given of a meeting of MAFAC. The MAFAC was established by the Secretary of Commerce (Secretary) and, since 1971, advises the Secretary on all living marine resource matters that are the responsibility of the Department of Commerce. The complete charter and summaries of prior meetings are located online at https://www.fisheries.noaa.gov/topic/partners/marine-fisheries-advisory-committee.

Matters To Be Considered

This meeting time and agenda are subject to change. The meeting is convened to hear presentations and discuss policies and guidance on the following topics: climate science to management for climate-ready fisheries, NOAA National Seafood Strategy, NOAA Fisheries Equity and Environmental Justice Strategy, new habitat restoration and coastal resilience funding opportunities, budget outlook, recreational fisheries, and other program updates. MAFAC will discuss various administrative and organizational matters, and meetings of subcommittees and working groups will be convened.

Time and Date

The meeting will be May 31, from 9 a.m. to 5:30 p.m., June 1, from 8:30 a.m. to 5 p.m., June 2, 2023 from 8 a.m. to 2 p.m. Pacific Time, and will be accessible by webinar and teleconference. Access information for the public will be posted at https://www.fisheries.noaa.gov/national/partners/marine-fisheries-advisory-committee-meeting-materials-and-summaries by May 15, 2023.

Special Accommodations

This meeting is physically accessible to people with disabilities. Requests for sign language interpretation or other auxiliary aids should be directed to Katie Denman, MAFAC Assistant, at (301) 427-8038, at least 5 days prior to the meeting date.

Dated: May 1, 2023.
Jennifer Lukens,
Director for the Office of Policy, National Marine Fisheries Service.

[FR Doc. 2023-09549 Filed 5-4-23; 8:45 am]

BILLING CODE 3510-22-P